DEPARTMENT OF ENERGY

Bonneville Power Administration

Transmission System Vegetation Management Program

AGENCY: Bonneville Power Administration (Bonneville), Department of Energy (DOE).

ACTION: Notice of Availability of Record of Decision (ROD).

SUMMARY: This notice announces the availability of the ROD for the Transmission System Vegetation Management Program Environmental Impact Statement (DOE/EIS-0285, May 2000). This program is the policy and direction for managing vegetation at Bonneville's facilities throughout its service area (seven states of the Pacific Northwest: Oregon, Washington, Idaho, western Montana, and small portions of northwest Wyoming, northern California, and Utah). Bonneville has decided to manage vegetation at its facilities by: (1) Promoting the establishment of low-growing plant communities on the rights-of-way to “out-compete” trees and tall-growing brush; (2) having all possible vegetation control methods available for use to maintain rights-of-way (manual, mechanical, biological, and herbicides—spot, localized, broadcast, and aerial applications); (3) allowing herbicides to be available for use on any kind of vegetation needing management on rights-of-way; (4) continuing our current practice of controlling vegetation in electrical yards using mostly pre-emergent herbicides; and (5) for other non-electric facilities, continuing to have available a variety of methods for use to manage vegetation, including manual, mechanical, herbicides, and fertilizers. Bonneville has also put in place planning steps and mitigaiton measures to be used to make site-specific project decisions tiered to the EIS and ROD.

ADDRESSES: Copies of the ROD and Environmental Impact Statement may be obtained by calling Bonneville's toll-free document request line: 1-800-622-4520.

FOR FURTHER INFORMATION CONTACT: Stacy Mason, Environmental Project Manager—KECP-4, Bonneville Power Administration, P.O. Box 3621, Portland, Oregon, 97208-3621, phone number (503) 230-5455, fax number (503) 230-5699, e-mail slmason@bpa.gov.

SUPPLEMENTARY INFORMATION: Bonneville is responsible for maintaining a network of 15,000 miles of electric transmission lines, 350 substations, and other related facilities. As vegetation grows near or into Bonneville's electrical facilities, or hampers access roads leading to those facilities, it can interfere with electric power flow, pose safety problems for Bonneville and neighboring members of the public, and interfere with Bonneville's ability to carry out both routine and emergency maintenance of these facilities. Bonneville's facilities include the following: rights-of-way (transmission lines—including trees just outside of the right-of-way, access roads, and microwave beam paths), electric yards (substations and switching stations), and non-electric facilities (maintenance work yards, landscaping around buildings, and microwave sites).

Issued in Portland, Oregon, on July 28, 2000.
Steven G. Hickok,
Acting Administrator and Chief Executive Officer.

[FR Doc. 00-19986 Filed 8-7-00; 8:45 am]

BILLING CODE 6450-01-P